DEPARTMENT OF COMMERCE

Foreign-Trade Zones Board

[B-9-2013]

Foreign-Trade Zone 41—Milwaukee, WI; Notification of Proposed Production Activity; CNH America, LLC, Subzone 41I (Tractors and Tractor/Combine Components), Racine, WI

The Port of Milwaukee, grantee of FTZ 41, submitted a notification of proposed production activity on behalf of CNH America, LLC (CNH), operator of Subzone 41I, at its facilities in Racine, Wisconsin. The notification conforming to the requirements of the regulations of the Foreign Trade-Zones Board (the Board) (15 CFR 400.22) was received on January 18, 2013.

The CNH facilities are located within Subzone 41I. The facilities are used for the production of tractors and tractor/combine components. Pursuant to 15 CFR 400.14(b)4 of the regulations, FTZ activity would be limited to the specific foreign-status materials and components and specific finished products described in the submitted notification (as described below) and subsequently authorized by the FTZ Board.

Production under FTZ procedures could exempt CNH from customs duty payments on the foreign status components used in export production. On its domestic sales, CNH would be able to choose the duty rates during customs entry procedures that apply to valves and valve assemblies; differential axles; transmissions for combines and agricultural tractors; track-laying agricultural tractors; cab units for special purpose vehicles, including sprayer, floater, tractor and deluxe cabs; gear boxes for combines; final drives for combines; and drive axles (duty rates range from free to 4%). Customs duties also could possibly be deferred or reduced on foreign status production equipment.

The components and materials sourced from abroad include: Rubber hoses, copper alloy adapters, aluminum plates, feed filters, GPS kits including electrical connections, and LED's (duty rates range from free to 4%).

Public comment is invited from interested parties. Submissions shall be addressed to the Board's Executive Secretary at the address below. The closing period for their receipt is March 13, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: January 25, 2013.
Andrew McGilvray,
Executive Secretary.

[FR Doc. 2013-02196 Filed 1-31-13; 8:45 am]

BILLING CODE P